DEPARTMENT OF COMMERCE

National Oceanic and Atmospheric Administration

Agency Information Collection Activities; Submission to the Office of Management and Budget (OMB) for Review and Approval; Comment Request; Protocol for Access to Tissue Specimen Samples From the National Marine Mammal Tissue Bank

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 15, 2021.

ADDRESSES: Interested persons are invited to submit written comments to Adrienne Thomas, NOAA PRA Officer, at Adrienne.thomas@noaa.gov. Please reference OMB Control Number 0648-0468 in the subject line of your comments. Do not submit Confidential Business Information or otherwise sensitive or protected information.

FOR FURTHER INFORMATION CONTACT: Requests for additional information or specific questions related to collection activities should be directed to Stephen Manley, Biologist, National Marine Fisheries Service, 1315 East-West Highway, #13604, Silver Spring, MD 20910, (301)-427-8476, stephen.manley@noaa.gov.

SUPPLEMENTARY INFORMATION:

I. Abstract

In 1989, the National Marine Mammal Tissue Bank (NMMTB) was established by the National Marine Fisheries Service (NMFS) Office of Protected Resources (OPR) in collaboration with the National Institute of Standards and Technology (NIST), Minerals Management Service (MMS), and the U.S. Geological Survey/Biological Resources Division (USGS/BRD). The NMMTB provides protocols, techniques, and physical facilities for the long-term storage of tissues from marine mammals. Scientists can request tissues from this repository for retrospective analyses to determine environmental trends of contaminants and other substances of interest. Under 16 U.S.C. 1421f section 407(d)(1) of the Marine Mammal Protection Act, the NMFS must establish criteria for access to marine mammal tissues in the NMMTB and make those available for public comment and review. This was accomplished through the proposed rule RIN 0648-AQ51, published on 11/12/2002, and codified in 50 CFR 216.47.

The NMMTB collects, processes, and stores tissues from specific indicator species (e.g., Atlantic bottlenose dolphins, Atlantic white sided dolphins, pilot whales, harbor porpoises), animals from mass strandings, animals that have been obtained incidental to commercial fisheries, animals taken for subsistence purposes, biopsies, and animals from unusual mortality events through two projects, the Marine Mammal Health and Stranding Response Program (MMHSRP) and the Alaska Marine Mammal Tissue Archival Project (AMMTAP).

The purposes of this collection of information are: (1) To enable NOAA to allow the scientific community the opportunity to request tissue specimen samples from the NMMTB and, (2) to enable the Marine Mammal Health and Stranding Response Program (MMHSRP) of NOAA to assemble information on all specimens submitted to the National Institute of Standards and Technology's Biorepository (NIST Biorepository), which includes the NMMTB.

This request is for revision and extension of a current information collection. Most revisions were grammatical. However, two changes were made to data fields in order to streamline data collection. Specifically, instead of relying on a “please specify” text field, more checkbox options have been added to the “collection type” field, and the “method used to age” field on the National Marine Mammal Tissue Bank Form. No changes have been made to the National Marine Mammal Tissue Bank Tissue Request Form.

II. Method of Collection

Respondents must complete a specimen banking information sheet for every sample submitted to the Bank. Methods of submitting reports include internet, mail and facsimile transmission of paper forms. Those requesting samples send the information, and their research findings, mainly via email.

III. Data

OMB Control Number: 0648-0468.

Form Number(s): None.

Type of Review: Regular submission (Revision and extension of a current information collection).

Affected Public: Individuals or households; Business or other for-profit organizations; Not-for-profit institutions; State, Local, or Tribal government; Federal government.

Estimated Number of Respondents: 100 specimen submission forms (from ~20 different organizations); 5 requests for tissue samples.

Estimated Time Per Response: Request for tissue sample, 2 hours. Specimen submission form, 45 minutes.

Estimated Total Annual Burden Hours: 85.

Estimated Total Annual Cost to Public: $152.

Respondent's Obligation: Mandatory.

Legal Authority: Under 16 U.S.C. 1421f section 407(d)(1) of the Marine Mammal Protection Act, the NMFS must establish criteria for access to marine mammal tissues in the NMMTB and make those available for public comment and review.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00554 Filed 1-12-21; 8:45 am]

BILLING CODE 3510-22-P